DEPARTMENT OF THE INTERIOR

Bureau of Land Management

43 CFR Part 2360

[BLM_HQ_FRN_MO4500175868]

RIN 1004-AE95

Management and Protection of the National Petroleum Reserve in Alaska; Extension of Comment Period

AGENCY: Bureau of Land Management, Interior.

ACTION: Proposed rule; extension of comment period.

SUMMARY: On September 8, 2023, the Bureau of Land Management (BLM) published in the Federal Register a proposed rule that would revise the framework for designating and assuring maximum protection of Special Areas' significant resource values and protect and enhance access for subsistence activities throughout the National Petroleum Reserve in Alaska (NPR-A). The proposed rule would also incorporate aspects of the NPR-A Integrated Activity Plan approved in April 2022. On October 24, 2023, the BLM extended the comment period to November 17, 2023. The BLM has determined that it is appropriate to further extend the comment period for the proposed rule by 20 days, until December 7, 2023, to allow for additional public comment.

DATES: The comment period for the proposed rule that originally published on September 8, 2023, at 88 FR 62025, and was extended on October 24, 2023, at 88 FR 72985, ends on November 17, 2023. Under this further extension, comments must now be submitted on or before December 7, 2023. The BLM need not consider or include in the administrative record for the final rule comments that the BLM receives after the close of the comment period or comments delivered to an address other than those listed in the ADDRESSES section.

ADDRESSES: Mail, personal, or messenger delivery: U.S. Department of the Interior, Director (HQ-630), Bureau of Land Management, 1849 C St. NW, Room 5646, Washington, DC 20240, Attention: 1004-AE80. Federal eRulemaking Portal: https://www.regulations.gov. In the Search-box, enter “RIN 1004-AE95” and click the “Search” button. Follow the instructions at this website.

FOR FURTHER INFORMATION CONTACT: James Tichenor, Advisor—Office of the Director, at 202-573-0536 or jtichenor@blm.gov with a subject line of “RIN 1004-AE95.” For questions relating to regulatory process issues, contact Faith Bremner at fbremner@blm.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION:

Public Comment Procedures

If you wish to comment on this proposed rule, you may submit your comments to the BLM, marked with the number RIN 1004-AE95, by mail, personal or messenger delivery, or through https://www.regulations.gov (see the ADDRESSES section). Please note that comments on this proposed rule's information collection burdens should be submitted to the OMB as described in the ADDRESSES section. Please make your comments on the proposed rule as specific as possible, confine them to issues pertinent to the proposed rule, and explain the reason for any changes you recommend. Where possible, your comments should reference the specific section or paragraph of the proposal that you are addressing. The comments and recommendations that will be most useful and likely to influence agency decisions are:

1. Those supported by quantitative information or studies; and

2. Those that include citations to, and analyses of, the applicable laws and regulations.

The BLM is not obligated to consider or include in the Administrative Record for the final rule comments that we receive after the close of the comment period (see DATES) or comments delivered to an address other than those listed above (see ADDRESSES). Comments, including names and street addresses of respondents, will be available for public review at the physical location listed under ADDRESSES during regular business hours (7:45 a.m. to 4:15 p.m. EST), Monday through Friday, except holidays. Before including your address, telephone number, email address, or other personal identifying information in your comment, be advised that your entire comment—including your personal identifying information—may be made publicly available at any time. While you can ask us in your comment to withhold from public review your personal identifying information, we cannot guarantee that we will be able to do so.

Background

The proposed rule was published on September 8, 2023 (88 FR 62025), with a 60-day comment period closing on November 7, 2023. Since publication, the BLM has received requests for extension of the comment period on the proposed rule. The BLM previously extended the comment period to November 17, 2023 (88 FR 72985). The BLM has determined that it is appropriate to further extend the comment period for the docket until December 7, 2023, to allow for additional public comment.

Steven H. Feldgus,
Deputy Assistant Secretary, Land and Minerals Management.

[FR Doc. 2023-25486 Filed 11-16-23; 8:45 am]

BILLING CODE 4331-27-P